ENVIRONMENTAL PROTECTION AGENCY

[FRL-9906-79-OAR]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet virtually on March 3, 2014. The MSTRS is a subcommittee under the Clean Air Act Advisory Committee. This is an open meeting. The meeting will include discussion and review of the SmartWay Legacy Fleet Work Group's Report. The preliminary agenda for the meeting and any notices about change in venue will be posted on the Subcommittee's Web site: http://www.epa.gov/air/caaac/mobile_sources.html. MSTRS listserver subscribers will receive notification when the agenda and report are available on the Subcommittee Web site. To subscribe to the MSTRS listserver, send an email to Etchells.elizabeth@epa.gov.

DATES: Monday, March 3, 2014 from 3:00 p.m. to 4:30 p.m. EST.

Virtual Location: This is a virtual meeting via Adobe Connect webinar software. On March 3, 2014 at 3 p.m. EST, to join the webinar go to: https://epa.connectsolutions.com/mstrs/ and click “Enter as Guest”. Also, please call (866) 299-3188 and enter conference call code 202 343 9231# for the audio portion of the meeting.

FOR FURTHER INFORMATION CONTACT: Elizabeth Etchells, Designated Federal Officer, Transportation and Climate Division, Mailcode 6406J, U.S. EPA, 1200 Pennsylvania Ave. NW., Washington, DC 20460; Ph: 202-343-9231; email: Etchells.elizabeth@epa.gov

Background on the work of the Subcommittee is available at: http://www.epa.gov/air/caaac/mobile_sources.html. Individuals or organizations wishing to provide comments to the Subcommittee should submit them to Ms. Etchells at the address above by February 27, 2014. The Subcommittee expects that public statements presented at its meetings will not be repetitive of previously submitted oral or written statements.

SUPPLEMENTARY INFORMATION: During the meeting, the Subcommittee may also hear progress reports from some of its workgroups as well as updates and announcements on activities of general interest to attendees.

For Individuals With Disabilities: For information on access or services for individuals with disabilities, please contact Ms. Etchells (see above). To request accommodation of a disability, please contact Ms. Etchells, preferably at least 10 days prior to the meeting, to give EPA as much time as possible to process your request.

Dated: February 8, 2014.
Christopher Grundler,
Director, Office of Transportation and Air Quality.

[FR Doc. 2014-03449 Filed 2-14-14; 8:45 am]

BILLING CODE 6560-50-P